DEPARTMENT OF THE INTERIOR

Bureau of Indian Affairs

[120A2100DD/AAKC001030/A0A501010.999900 253G; OMB Control Number 1076-0161]

Agency Information Collection Activities; Submission to the Office of Management and Budget for Review and Approval; Tribal Transportation Program

AGENCY: Bureau of Indian Affairs, Interior.

ACTION: Notice of information collection; request for comment.

SUMMARY: In accordance with the Paperwork Reduction Act of 1995, we, the Bureau of Indian Affairs are proposing to renew an information collection.

DATES: Interested persons are invited to submit comments on or before January 27, 2020.

ADDRESSES: Send written comments on this information collection request (ICR) to the Office of Management and Budget's Desk Officer for the Department of the Interior by email at OIRA_Submission@omb.eop.gov; or via facsimile to (202) 395-5806. Please provide a copy of your comments to Mr. LeRoy Gishi, Chief, Division of Transportation, Bureau of Indian Affairs, 1849 C Street NW, MS-4513-MIB, Washington, DC 20240; fax: (202) 208-4696; email: LeRoy.Gishi@bia.gov. Please reference OMB Control Number 1076-0161 in the subject line of your comments.

FOR FURTHER INFORMATION CONTACT: To request additional information about this ICR, contact Mr. LeRoy Gishi by telephone at (202) 513-7711. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 26, 2019 (84 FR 36040). No comments on this information collection were received.

We are again soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The regulations at 25 CFR 170, Tribal Transportation Program (TTP), implement 23 U.S.C. 202(d), the Safe, Accountable, Flexible, Efficient Transportation Equity Act: A Legacy for Users (SAFETEA-LU), which has been amended by Moving Ahead for Progress in the 21st Century Act (MAP-21) and the Fixing America's Surface Transportation Act (FAST). This information collection is necessary to implement the requirements of the law for allocating funding provided from the highway trust fund to Indian tribal governments. The BIA uses the information provided through information collection requirements to determine how funds appropriated by Congress under the statutes will be allocated to various Tribal governments for implementing the Tribal Transportation Program. BIA also uses the information to assist Tribal governments in meeting reporting requirements for their participation in the TTP program.

Title of Collection: Tribal Transportation Program.

OMB Control Number: 1076-0161.

Form Number: None.

Type of Review: Extension of a currently approved collection.

Respondents/Affected Public: Tribal governments.

Total Estimated Number of Annual Respondents: 1,630.

Total Estimated Number of Annual Responses: 1,630.

Estimated Completion Time per Response: Varies from half an hour to 40 hours.

Total Estimated Number of Annual Burden Hours: 23,448.

Respondent's Obligation: Required to Obtain or Retain a Benefit.

Frequency of Collection: On occasion.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-27967 Filed 12-26-19; 8:45 am]

BILLING CODE 4337-15-P